DEPARTMENT OF COMMERCE

National Oceanic and Atmospheric Administration

[I.D. 041403G]

South Atlantic Fishery Management Council; Public Meeting

AGENCY: National Marine Fisheries Service (NMFS), National Oceanic and Atmospheric Administration (NOAA), Commerce.

ACTION: Notice of public meeting.

SUMMARY: The South Atlantic Fishery Management Council (Council) will hold a meeting of its Information and Education Committee and a joint meeting of the Committee and Information and Education Advisory Panel in Charleston, SC.

DATES: The meeting will be held on May 13-15, 2003. SEE SUPPLEMENTARY INFORMATION for specific dates and times.

ADDRESSES: The meeting will be held at the Town & Country Inn, 2008 Savannah Highway, Charleston, SC 29407; telephone: (843) 571-1000; fax: (843) 766-9444.

Council address: South Atlantic Fishery Management Council, One Southpark Circle, Suite 306, Charleston, SC 29407.

FOR FURTHER INFORMATION CONTACT: Kim Iverson, Public Information Officer,; phone: (843) 571-4366 or toll free: (866) SAFMC-10; fax: (843) 769-4520.

SUPPLEMENTARY INFORMATION: The Information and Education Committee will meet from 10 a.m. until 12 noon on May 13, 2003. The Committee will meet jointly with the Information and Education Advisory Panel from 1:30 p.m. until 5 p.m. on May 13, 2003, from 8:30 a.m. until 5 p.m. on May 14, 2003, and from 8:30 a.m. until 12 noon on May 15, 2003.

The Information and Education Committee will meet to review and discuss issues to be addressed during the joint meeting relative to outreach and public affairs. During the joint meeting, the Advisory Panel will receive an overview of the South Atlantic Fishery Management Council's current Information and Education program. The Advisory Panel will review and make recommendations regarding a draft strategic management plan for the program. In addition, members will review and make recommendations concerning the Council's Information and Education program including outreach efforts, working with the media, networking with state and federal partners and program evaluation. The Advisory Panel and Committee will develop a list of recommendations and priorities for the Council to consider.

Special Accommodations

These meetings are physically accessible to people with disabilities. Requests for sign language interpretation or other auxiliary aids should be directed to the council office (see ADDRESSES) by May 12, 2003.

Dated: April 15, 2003.
Matteo J. Milazzo,
Acting Director, Office of Sustainable Fisheries, National Marine Fisheries Service.

[FR Doc. 03-9795 Filed 4-18-03; 8:45 am]

BILLING CODE 3510-22-S